DEPARTMENT OF DEFENSE

Office of the Secretary

Meeting of the Defense Department Advisory Committee on Women in the Services

AGENCY: Department of Defense.

ACTION: Notice.

SUMMARY: Pursuant to Section 10(a), Pub. L. 92-463, as amended, notice is hereby given of a forthcoming meeting of the Defense Department Advisory Committee on Women in the Services (DACOWITS). The purpose of the Committee meeting is to provide further briefings on various topics to Committee members. The meeting is open to the public, subject to the availability of space.

DATES: 4 September 2003, 8:30 a.m.-6:30 p.m.

5 September 2003, 8:30 a.m.-5 p.m.

ADDRESSES: Double Tree Hotel, 300 Army Navy Drive, Arlington, VA 22202.

FOR FURTHER INFORMATION CONTACT: Lieutenant Commander Shannon Thaeler, USN, DACOWITS, 4000 Defense Pentagon, Room 3D769, Washington, DC 20301-4000. Telephone (703) 697-2122.

SUPPLEMENTARY INFORMATION: Meeting agenda:

Thursday, September 4, 2003

Welcome & Administrative Remarks.

Caliber Associates Question and Answer Period.

Committee Time.

Lunch (by invitation only).

Committee Time.

Senior Defense Official (tentative).

Committee Time.

Review of Caliber Reports.

Wrap-up.

Friday, September 5, 2003

Renewal Paperwork.

Committee Time.

Conclusions/Recommendations—Vote.

Lunch (by invitation only).

Committee Time.

Public Forum.

Interested persons may submit a written statement for consideration by the Committee and make an oral presentation of such. Persons desiring to make an oral presentation or submit a written statement to the Committee must notify the point of contact listed above no later than noon, August 29, 2003. Oral presentations by Members of the public will be permitted only on Friday, September 5, 2003, from 4:45 p.m. to 5:00 p.m. before the full Committee. Presentations will be limited to two minutes. Number of oral presentations to be made will depend on the number of requests received from members of the public. Each person desiring to make an oral presentation must provide the point of contact listed above with only one (1) Copy of the presentation by noon, September 4, 2003 and bring 35 copies of any material that is intended for distribution at the meeting. Persons submitting a written statement only must submit one (1) Copy of the statement to the DACOWITS staff by the close of the meeting on September 5, 2003.

Dated: August 11, 2003.
Patricia L. Toppings,
Alternate OSD Federal Register Liaison Officer, Department of Defense.

[FR Doc. 03-20869 Filed 8-14-03; 8:45 am]

BILLING CODE 5001-08-M